DEPARTMENT OF THE INTERIOR

National Park Service

[N6881; NPS-WASO-NAGPRA-NPS0041879; PPWOCRADN0-PCU00RP14.R50000]

Notice of Intended Repatriation: Western Washington University Archaeological Repository, Department of Anthropology, Bellingham, WA

AGENCY: National Park Service, Interior.

ACTION: Notice.

SUMMARY: In accordance with the Native American Graves Protection and Repatriation Act (NAGPRA), the Western Washington University Archaeological Repository (WWUAR), Department of Anthropology intends to repatriate certain cultural items that meet the definition of unassociated funerary objects, sacred objects, and/or objects of cultural patrimony and that have a cultural affiliation with the Indian Tribes or Native Hawaiian organizations in this notice.

DATES: Repatriation of the cultural items in this notice may occur on or after February 27, 2026.

ADDRESSES: Send additional, written requests for repatriation of the cultural items in this notice to Dr. Judith Pine, Western Washington University, Department of Anthropology, Arntzen Hall 340, 516 High Street, Bellingham, WA 98225, email pinej@wwu.edu.

SUPPLEMENTARY INFORMATION: This notice is published as part of the National Park Service's administrative responsibilities under NAGPRA. The determinations in this notice are the sole responsibility of the WWUAR, and additional information on the determinations in this notice, including the results of consultation, can be found in the summary or related records. The National Park Service is not responsible for the determinations in this notice.

Abstract of Information Available

A total of 36 cultural items have been requested for repatriation. The 36 sacred objects/objects of cultural patrimony are bone, stone, antler, glass and clay tools, red ochre and ceremonial items. These items were identified in four different WWUAR collections from Whatcom County, WA. Twelve of the 36 cultural items in this notice were collected by Keith Montgomery of Western Washington University (WWU) in 1978 for his MA thesis research by systematic surface collection and excavation of 5 2x2 meter test cuts. Another five of the cultural items were collected by Robert Spear and Western Washington University, spring and summer field schools in 1976 for his M.A. thesis research. Materials were collected by excavation of 22 2x2 meter cuts and 1 1x3 meter cut. The final 19 cultural items requested for repatriation are from the Sturgeon Collection. This collection from Deming, Whatcom County, WA, consists of bone, stone, and antler tools and was donated to the WWUAR at an unknown date. The WWUAR has no information about the collections being treated with potentially hazardous substances.

Determinations

The WWUAR has determined that:

• The 36 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Lummi Tribe of the Lummi Reservation and the Nooksack Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 27, 2026. If competing requests for repatriation are received, the WWUAR must determine the most appropriate requestor prior to repatriation. Requests for joint repatriation of the cultural items are considered a single request and not competing requests. The WWUAR is responsible for sending a copy of this notice to the Indian Tribes and Native Hawaiian organizations identified in this notice and to any other consulting parties.

Authority: Native American Graves Protection and Repatriation Act, 25 U.S.C. 3004 and the implementing regulations, 43 CFR 10.9.

Dated: January 15, 2026.
Melanie O'Brien,
Manager, National NAGPRA Program.

[FR Doc. 2026-01667 Filed 1-27-26; 8:45 am]

BILLING CODE 4312-52-P